DEPARTMENT OF DEFENSE

GENERAL SERVICES ADMINISTRATION

NATIONAL AERONAUTICS AND SPACE ADMINISTRATION

48 CFR Parts 1, 2, 9, 12, 22, 42, and 52

[FAC 2005-80; FAR Case 2013-001; Corrections; Docket 2013-0001; Sequence No. 1]

RIN 9000-AM55

Federal Acquisition Regulation; Ending Trafficking in Persons; Corrections

AGENCIES: Department of Defense (DoD), General Services Administration (GSA), and National Aeronautics and Space Administration (NASA).

ACTION: Final rule; corrections.

SUMMARY: DoD, GSA, and NASA are issuing corrections to FAR Case 2013-001; Ending Trafficking in Persons (Item I), which was published in the Federal Register at 80 FR 4967, January 29, 2015.

DATES: Effective: March 2, 2015.

FOR FURTHER INFORMATION CONTACT: Ms. Cecelia L. Davis, Procurement Analyst, at 202-219-0202, for clarification of content. For information pertaining to status or publication schedules, contact the Regulatory Secretariat at 202-501-4755. Please cite FAC 2005-80; FAR Case 2013-001; Corrections.

SUPPLEMENTARY INFORMATION:

Corrections

In rule FR Doc. 2015-01524 published in the Federal Register at 80 FR 4967, January 29, 2015, make the following corrections:

1. On page 4990, in the first column, lines 7, 11, 13, 19, 21, 25, 30, 32, 54, 60, and 66, correct “(March 2, 2015)” to read “(Mar 2015)” (11 times).

2. On page 4990, in the second column, line 41, correct “(March 2, 2015)” to read “(Mar 2015).

3. On page 4992, in the first column, Alternate I, correct “(March 2, 2015)” to read “(Mar 2015)”.

4. On page 4992, in the first column, section 52.222-56, line 6, correct “(March 2, 2015)” to read “(Mar 2015)”.

5. On page 4992, in the second column, section 52.244-6, lines 4, 10, and 12, correct “(March 2, 2015)” to read “(Mar 2015)”.

Authority: 40 U.S.C. 121(c); 10 U.S.C. chapter 137; and 51 U.S.C. 20113.

Dated: February 3, 2015.
William Clark,
Director, Office of Government-wide Acquisition Policy, Office of Acquisition Policy, Office of Government-wide Policy.

[FR Doc. 2015-02540 Filed 2-6-15; 8:45 am]

BILLING CODE 6820-EP-P